DEPARTMENT OF ENERGY

Federal Energy Regulatory Commission

Combined Notice Of Filings #2

Take notice that the Commission received the following exempt wholesale generator filings:

Docket Numbers: EG15-96-000.

Applicants: 87RL 8me LLC.

Description: Notice of Self-Certification of Exempt Wholesale Generator Status of 87RL 8me LLC.

Filed Date: 6/16/15.

Accession Number: 20150616-5089.

Comments Due: 5 p.m. ET 7/7/15.

Take notice that the Commission received the following electric rate filings:

Docket Numbers: ER15-520-001.

Applicants: Deseret Generation & Transmission Co-operative, Inc.

Description: Compliance filing per 35: Compliance Filing to May 18 Order to be effective 2/2/2015.

Filed Date: 6/16/15

Accession Number: 20150616-5154.

Comments Due: 5 p.m. ET 7/7/15.

Docket Numbers: ER15-528-001.

Applicants: Golden Spread Electric Cooperative, Inc.

Description: Compliance filing per 35: OATT Order No. 676-H Second Compliance Filing to be effective 5/15/2015.

Filed Date: 6/16/15.

Accession Number: 20150616-5269.

Comments Due: 5 p.m. ET 7/7/15.

Docket Numbers: ER15-1541-001.

Applicants: Midcontinent Independent System Operator, Inc.

Description: Compliance filing per 35: 2015-06-16_SA 764 Compliance ATC-Wisconsin Electric Bill of Sales to be effective N/A.

Filed Date: 6/16/15.

Accession Number: 20150616-5145.

Comments Due: 5 p.m. ET 7/7/15.

Docket Numbers: ER15-1920-000.

Applicants: MATL LLP.

Description: § 205(d) rate filing per 35.13(a)(2)(iii): Attachment L Creditworthiness Filing to be effective 6/16/2015.

Filed Date: 6/16/15.

Accession Number: 20150616-5001.

Comments Due: 5 p.m. ET 7/7/15.

Docket Numbers: ER15-1921-000.

Applicants: Southern California Edison Company.

Description: Tariff Withdrawal per 35.15: Notices of Cancellation LGIA and Distribution Service Agmt Daggett Ridge to be effective 8/31/2013.

Filed Date: 6/16/15.

Accession Number: 20150616-5007.

Comments Due: 5 p.m. ET 7/7/15.

Docket Numbers: ER15-1924-000.

Applicants: Southwest Power Pool, Inc.

Description: § 205(d) rate filing per 35.13(a)(2)(iii): Bylaws Revision for Board of Directors Expansion to be effective 8/15/2015.

Filed Date: 6/16/15.

Accession Number: 20150616-5155.

Comments Due: 5 p.m. ET 7/7/15.

Docket Numbers: ER15-1925-000.

Applicants: Breckinridge Wind Project, LLC.

Description: Baseline eTariff Filing per 35.1: Breckinridge Wind Project, LLC Market-Based Rate Application to be effective 8/1/2015.

Filed Date: 6/16/15.

Accession Number: 20150616-5195.

Comments Due: 5 p.m. ET 7/7/15.

Docket Numbers: ER15-1926-000.

Applicants: Innoventive Power LLC.

Description: Request of Innoventive Power LLC for Limited Tariff Waiver on an Expedited Basis.

Filed Date: 6/16/15.

Accession Number: 20150616-5213.

Comments Due: 5 p.m. ET 6/26/15.

Docket Numbers: ER15-1927-000.

Applicants: PJM Interconnection, L.L.C.

Description: Tariff Withdrawal per 35.15: Notice of Cancellation of Interconnection Service Agreement to be effective 7/8/2015.

Filed Date: 6/16/15.

Accession Number: 20150616-5215.

Comments Due: 5 p.m. ET 7/7/15.

Docket Numbers: ER15-1928-000.

Applicants: Midcontinent Independent System Operator, Inc.

Description: § 205(d) rate filing per 35.13(a)(2)(iii): 2015-06-16_SA 1564 NSP-NSP 2nd Rev. GIA (G237/J320) to be effective 6/17/2015.

Filed Date: 6/16/15.

Accession Number: 20150616-5234.

Comments Due: 5 p.m. ET 7/7/15.

Docket Numbers: ER15-1929-000.

Applicants: Louisville Gas and Electric Company.

Description: § 205(d) rate filing per 35.13(a)(2)(iii): Revised Att M LGIP to be effective 8/17/2015.

Filed Date: 6/16/15.

Accession Number: 20150616-5235.

Comments Due: 5 p.m. ET 7/7/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 16, 2015.
Kimberly D. Bose,
Secretary.

[FR Doc. 2015-15231 Filed 6-19-15; 8:45 am]

BILLING CODE 6717-01-P